DEPARTMENT OF LABOR

Employment and Training Administration

[TA-W-41,448]

Ocwen Technology Xchange, Carlsbad, CA; Notice of Negative Determination Regarding Application for Reconsideration

By application received on October 7, 2002, a petitioner requested administrative reconsideration of the Department's negative determination regarding eligibility to apply for Trade Adjustment Assistance (TAA), applicable to workers and former workers of the subject firm. The denial notice was signed on August 27, 2002, and published in the Federal Register on September 10, 2002 (67 FR 57456).

Pursuant to 29 CFR 90.18(c) reconsideration may be granted under the following circumstances:

(1) If it appears on the basis of facts not previously considered that the determination complained of was erroneous;

(2) If it appears that the determination complained of was based on a mistake in the determination of facts not previously considered; or

(3) If in the opinion of the Certifying Officer, a mis-interpretation of facts or of the law justified reconsideration of the decision.

The petition for the workers of Ocwen Technology Xchange, Carlsbad, California was denied because the “contributed importantly” group eligibility requirement of Section 222(3) of the Trade Act of 1974, as amended; was not met. The denial was based on evidence the workers developed software for e-commerce and software solutions used in the mortgage and real estate industries. The workers did not produce an article as required for certification under Section 222 of the Trade Act of 1974.

The petitioner alleges that software development activities conducted at the Carlsbad, California plant were shifted to an affiliated foreign source. The petitioner further states that the parent firm shipped the software that was in a later stage in the development back to the United States for quality adjustments to the software prior to the release of the software.

The Department considers the development stage of an article as a service activity. In the case of the workers identified as developing software, they were exclusively engaged in the development and design of a product, rather than the actual production of an article, they do not produce an article within the meaning of section 222(3) of the Trade Act of 1974.

Conclusion

After review of the application and investigative findings, I conclude that there has been no error or misinterpretation of the law or of the facts which would justify reconsideration of the Department of Labor's prior decision. Accordingly, the application is denied.

Signed at Washington, DC this 10th day of February 2003.
Edward A. Tomchick,
Director, Division of Trade Adjustment Assistance.

[FR Doc. 03-5414 Filed 3-6-03; 8:45 am]

BILLING CODE 4510-30-P